DEPARTMENT OF COMMERCE

National Oceanic and Atmospheric Administration

RIN 0648-XG093

North Pacific Fishery Management Council; Public Meeting

AGENCY: National Marine Fisheries Service (NMFS), National Oceanic and Atmospheric Administration (NOAA), Commerce.

ACTION: Notice of public meeting.

SUMMARY: The Center of Independent Experts will meet April 16 through April 18, 2018 to review the stock assessments for Bering Sea and Aleutian Island yellowfin sole, northern rock sole, and Alaska plaice.

DATES: The meeting will be held on Monday, April 16, 2018 through Wednesday, April 18, 2018, from 9 a.m. to 5 p.m.

ADDRESSES:

Meeting address: The meeting will be held at the Alaska Fisheries Science Center (AFSC), in Building 4, Room 2039, 7600 Sand Point Way NE, Seattle, WA 98115.

Council address: North Pacific Fishery Management Council, 605 W. 4th Ave., Suite 306, Anchorage, AK 99501-2252; telephone: (907) 271-2809.

FOR FURTHER INFORMATION CONTACT: Diana Stram, NPFMC staff; telephone: (907) 271-2809.

SUPPLEMENTARY INFORMATION:

Terms of Reference

1. Evaluate the strengths and weaknesses of the assumptions made in applying the stock assessment model including how survey indices are scaled to the populations. Specifics might include:

a. How natural mortality estimates are estimated/applied.

b. Assumptions about survey “catchability”.

c. Application of fishery and survey age-specific schedules (maturity, body mass, selectivity).

d. The application (or lack thereof) of a stock-recruitment relationship (and associated parameter estimates).

2. Evaluate the stock assessment approach used focusing specifically on how fisheries and survey data are compiled and used to assess the stock status relative to stated management objectives under the Bering Sea and Aleutian Islands Fishery Management Plan (FMP) and the Magnuson-Stevens Act requirements. Elements should consider:

a. The FMP “Tier” designation.

b. Fishing rate estimation relative to overfishing definitions.

c. Stock status determinations relative to BMSY.

3. Recommend how assessment data and/or models could be improved.

Special Accommodations

These meetings are physically accessible to people with disabilities. Requests for sign language interpretation or other auxiliary aids should be directed to Shannon Gleason at (907) 271-2809 at least 7 working days prior to the meeting date.

Dated: March 26, 2018.
Tracey L. Thompson,
Acting Deputy Director, Office of Sustainable Fisheries, National Marine Fisheries Service.

[FR Doc. 2018-06315 Filed 3-28-18; 8:45 am]

BILLING CODE 3510-22-P